DEPARTMENT OF DEFENSE

Department of the Army

Change to the Military Freight Carrier Registration Program (FCRP)

AGENCY: Department of the Army, DoD.

SUMMARY: The Military Surface Deployment and Distribution Command (SDDC) is providing notice that it will, effective 1 December 2012, only accept domestic motor transportation service provider (TSP) registrations during the FCRP open season which will run 1 September through 30 November each year. This will affect domestic motor TSPs only (common, contract, logistics, freight forwarders, and brokers). This does not apply to registration of air, rail, ocean, pipeline, barge, international, and household goods TSPs. This update will be included in the next release of the Military Freight Traffic Unified Rules Publication (MFTURP) NO. 1.

ADDRESSES: Submit comments to Military Surface Deployment and Distribution Command, ATTN: AMSSD-SBD-QA, 1 Soldier Way, Scott AFB, IL 62225-5006. Request for additional information may be sent by email to: kathy.a.baker16.civ@mail.mil or usarmy.scott.sddc.mbx.carrier-registrations@mail.mil.

FOR FURTHER INFORMATION CONTACT: Ms. Kathy Baker, (618) 220-6853 or (618) 220-6470.

SUPPLEMENTARY INFORMATION: References: SDDC Docketing System, Docket Misc., 1015.

Background: SDDC reviews qualifications on all registered motor freight carriers yearly. To provide DoD customers the best available services, utilizing an open season for freight motor carrier registration, allows SDDC to perform qualification reviews of TSPs in the FCRP program.

Miscellaneous: The SDDC Docketing System can be accessed at http://docketing.sddc.army.mil.

Grover P. Beasley III,
Deputy Director, Strategic Business.

[FR Doc. 2012-29691 Filed 12-7-12; 8:45 am]

BILLING CODE 3710-08-P